DEPARTMENT OF COMMERCE

International Trade Administration

[A-570-881]

Notice of Postponement of Preliminary Determination of Antidumping Duty Investigation: Certain Malleable Iron Pipe Fittings from the People's Republic of China

AGENCY: Import Administration, International Trade Administration, Department of Commerce.

EFFECTIVE DATE: March 21, 2003.

FOR FURTHER INFORMATION CONTACT: Anya Naschak at (202) 482-6375, Ann Barnett-Dahl at (202) 482-3833, or Helen Kramer at (202) 482-0405; Antidumping and Countervailing Duty Enforcement Group III, Import Administration, International Trade Administration, U.S. Department of Commerce, 14th Street and Constitution Avenue, N.W., Washington, D.C. 20230.

SUMMARY: The Department of Commerce (the Department) is postponing the preliminary determination in the antidumping duty investigation of certain malleable iron pipe fittings from the People's Republic of China from April 8, 2003, until May 28, 2003. These postponements are made pursuant to section 733(c)(1)(A) of the Tariff Act of 1930, as amended.

SUPPLEMENTARY INFORMATION:

Postponement of Due Date for Preliminary Determination

On November 19, 2002, the Department of Commerce (“the Department”) initiated the antidumping duty investigation of imports of certain malleable iron pipe fittings (malleable pipe fittings) from the People's Republic of China (PRC). See 67 FR 70579 (November 25, 2002). The notice of initiation stated that we would issue our preliminary determination no later than April 8, 2003, 140 days after the date of initiation. See id.

Under section 733(c)(1)(A) of the Tariff Act of 1930, as amended (the Act), if the petitioners make a timely request for an extension of the period within which the preliminary determination must be made under subsection 733(b)(1), then the Department may postpone making the preliminary determination until not later than the 190th day after the date on which the administering authority initiated the investigation.

On February 28, 2003, the petitioners, Anvil International, Inc. and Ward Manufacturing, Inc. made a timely request for a 50-day postponement, pursuant to section 733(c)(1)(A) of the Act and 19 CFR § 351.205(e). The Department has reviewed the petitioners' request for postponement and agrees to postpone this preliminary determination.

Therefore, in accordance with section 733(c)(1)(A), the Department is postponing the preliminary determination in this investigation until May 28, 2003, which is 190 days from November 19, 2002, the date on which the Department initiated this investigation.

This notice is issued and published pursuant to section 733(c)(2) of the Act and 19 CFR § 351.205(f).

Dated: March 14, 2003.
Joseph A. Spetrini,
Acting Assistant Secretary for Import Administration.

[FR Doc. 03-6841 Filed 3-20-02; 8:45 am]

BILLING CODE 3510-DS-S